DEPARTMENT OF ENERGY

Federal Energy Regulatory Commission

[Docket No. CP01-45-002]

Colorado Interstate Gas Company; Notice of Amendment to Certificate of Public Convenience and Necessity

April 23, 2002.

Take notice that on April 18, 2002, Colorado Interstate Gas Company (CIG), Post Office Box 1087, Colorado Springs, Colorado 80944, filed in Docket No. CP01-45-002 an application pursuant to section 7(c) of the Natural Gas Act (NGA) and Part 157 of the Commission's Regulations to amend the certificate of public convenience and necessity issued to CIG on January 30, 2002 in Docket Nos. CP01-45-000 and CP01-45-001, all as more fully set forth in the application which is on file with the Commission and open to public inspection. This filing may also be viewed on the web at http://www.ferc.gov using the “RIMS” link, select “Docket #” and follow the instructions (call 202-208-2222 for assistance).

The January 30, 2002 certificate of public convenience and necessity (January 30 Order) authorized CIG to construct, install, own, operate and maintain pipeline and compression facilities on its interstate pipeline system in Colorado to provide up to 282,000 Dth per day of firm transportation capacity for electric generators and local distribution companies along the eastern slope of the Rocky Mountain Front Range. Among the authorized facilities to be installed were two new 2,225 horsepower (ISO rated) natural gas fired reciprocating engines along with appurtenant facilities at CIG's existing Fort Lupton Compressor Station in Weld County, Colorado.

Based upon operational data from similar existing units at the Fort Lupton Compressor Station and consultations with CIG's equipment manufacturer, CIG now proposes to install a single 4,445 horsepower (ISO rated) natural gas fired reciprocating engine at the Fort Lupton Compressor Station in lieu of the two units authorized in the January 30 Order. CIG asserts that the single unit will be able to provide the proposed services and will have lower air quality impacts and will lower CIG's estimated capital costs by about $969,500.

Any questions concerning this application may be directed to Robert T. Tomlinson, Director, Regulatory Affairs Department, Colorado Interstate Gas Company, P.O. Box 1087, Colorado Springs, Colorado 80944; telephone (719) 520-3788.

There are two ways to become involved in the Commission's review of this project. First, any person wishing to obtain legal status by becoming a party to the proceedings for this project should, on or before May 3, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests, and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-10433 Filed 4-26-02; 8:45 am]

BILLING CODE 6717-01-P